ENVIRONMENTAL PROTECTION AGENCY

[FRL-7938-2]

Notice of Tentative Approval and Solicitation of Request for a Public Hearing for Public Water System Supervision Program Revision for the Commonwealth of Pennsylvania

AGENCY: Environmental Protection Agency (EPA).

ACTION: Notice of tentative approval and Solicitation of Requests for a Public Hearing.

SUMMARY: Notice is hereby given in accordance with the provision of Section 1413 of the Safe Drinking Water Act as amended, and the National Primary Drinking Water Implementation Regulations that the Commonwealth of Pennsylvania is revising its approved Public Water System Supervision Program. Pennsylvania has adopted the Long Term 1 Enhanced Surface Water Treatment Rule to improve control of microbial pathogens in drinking water, including specifically the protozoan Cryptosporidium, and the Filter Backwash Recycling Rule to require water systems to institute changes to return recycle flows of a plant's treatment process that may compromise pathogen treatment.

EPA has determined that these revisions are no less stringent than the corresponding Federal regulations except for one minor omission to the Commonwealth's regulations. The item concerns Tier 3 public notification for reporting violations. This omission will be addressed through a future rulemaking. The Pennsylvania Department of Environmental Protection committed to complete this rulemaking in a letter of intent from the Chief of the Division of Drinking Water Management dated March 29, 2005. This letter includes the draft content of the regulatory change and a schedule, with milestones, for completing this revision. Therefore, EPA is taking action to tentatively approve these program revisions. All interested parties are invited to submit written comments on this determination and may request a public hearing.

DATES: Comments or a request for a public hearing must be submitted by August 12, 2005. This determination shall become effective on August 12, 2005 if no timely and appropriate request for a hearing is received and the Regional Administrator does not elect on his own to hold a hearing, and if no comments are received which cause EPA to modify its tentative approval.

ADDRESSES: Comments or a request for a public hearing must be submitted to the U.S. Environmental Protection Agency Region III, 1650 Arch Street, Philadelphia, PA 19103-2029. Comments only may be submitted electronically to Jason Gambatese at gambatese.jason@epa.gov.

All documents relating to this determination are available for inspection between the hours of 8 a.m. and 4:30 p.m., Monday through Friday, at the following offices:

• Drinking Water Branch, Water Protection Division, U.S. Environmental Protection Agency Region III, 1650 Arch Street, Philadelphia, PA 19103-2029.

• Pennsylvania Department of Environmental Protection, Bureau of Water Supply and Wastewater Management, 11th Floor, Rachel Carson State Office Building Harrisburg, 400 Market Street, Harrisburg, PA 17105-8467.

FOR FURTHER INFORMATION CONTACT: Jason Gambatese, Drinking Water Branch at the Philadelphia address given above; telephone (215) 814-5759 or fax (215) 814-2318.

SUPPLEMENTARY INFORMATION: All interested parties are invited to submit written comments on this determination and may request a public hearing. All comments will be considered, and, if necessary, EPA will issue a response. Frivolous or insubstantial requests for a hearing may be denied by the Regional Administrator. However, if a substantial request for a public hearing is made by August 12, 2005, a public hearing will be held. A request for public hearing shall include the following: (1) The name, address, and telephone number of the individual, organization, or other entity requesting a hearing; (2) a brief statement of the requesting person's interest in the Regional Administrator's determination and of information that the requesting person intends to submit at such a hearing; and (3) the signature of the individual making the request; or, if the request is made on behalf of an organization or other entity, the signature of a responsible official of the organization or other entity.

Dated: July 6, 2005.
Donald S. Welsh,
Regional Administrator, EPA, Region III.

[FR Doc. 05-13785 Filed 7-12-05; 8:45 am]

BILLING CODE 6560-50-P